DEPARTMENT OF THE INTERIOR

Bureau of Ocean Energy Management

[Docket No. BOEM-2025-0351]

Commercial Leasing for Outer Continental Shelf Minerals Offshore the Commonwealth of the Northern Mariana Islands—Request for Information and Interest

AGENCY: Bureau of Ocean Energy Management, Interior.

ACTION: Request for information and interest.

SUMMARY: The Bureau of Ocean Energy Management (BOEM) is initiating the first steps that could potentially lead to a lease sale for minerals on the Outer Continental Shelf (OCS) offshore the Commonwealth of the Northern Mariana Islands (CNMI) by publishing this request for information and interest (RFI). This RFI is not a final decision to lease and does not prejudge any future Secretarial decisions concerning leasing on the OCS offshore the CNMI. This RFI requests information and comments on, and indications of interest in, the leasing of OCS minerals in an area offshore the CNMI, referred to as the RFI Area, with details in section 5 “Description of the RFI Area.” BOEM will consider information and interest received in response to this RFI when considering whether to proceed with additional steps leading to an offer of OCS minerals for lease offshore the CNMI. Those interested in providing comments or information should provide the information requested in section 6, “Types of Information and Comments Requested,” of this RFI. Those interested in leasing in and around the RFI Area for OCS mineral development should provide the information described in section 7, “Requested Information for Indications of Interest.” BOEM may or may not offer a lease for commercial OCS mineral development offshore the CNMI after further consultations, public participation, and environmental analyses.

DATES: BOEM must receive all comments, information, and indications of interest in response to this RFI no later than December 12, 2025.

ADDRESSES: Please submit indications of interest in commercial leasing electronically via email to Pacific.Region@boem.gov or by hard copy by mail to the following address: Bureau of Ocean Energy Management, Pacific Region, Office of Strategic Resources, 760 Paseo Camarillo (CM 102), Camarillo, California 93010. If you elect to mail a hard copy, also include an electronic copy on a portable storage device. Do not submit indications of interest via the Federal eRulemaking Portal.

Please submit all other comments and information as discussed in section 6, entitled, “Types of Information and Comments Requested,” by either of the following two methods:

1. Federal eRulemaking Portal: http://www.regulations.gov. In the search box at the top of the web page, enter BOEM-2025-0351 and then click “search.” Follow the instructions to submit public comments and to view supporting and related materials.

2. By mail to the following address: Bureau of Ocean Energy Management, Pacific Region, Office of Strategic Resources, 760 Paseo Camarillo (CM 102), Camarillo, California 93010.

Treatment of confidential information is addressed in section 8 of this notice entitled, “Protection of Privileged, Personal, or Confidential Information.” BOEM will post all comments received on regulations.gov, unless the comments are labeled as confidential and BOEM determines that an exemption from disclosure applies.

FOR FURTHER INFORMATION CONTACT: Jennifer Miller, Bureau of Ocean Energy Management, Pacific Region, Office of Strategic Resources, 760 Paseo Camarillo (CM 102), Camarillo, California 93010, at Pacific.Region@boem.gov or (805) 384-6305.

SUPPLEMENTARY INFORMATION:

The OCS Lands Act (43 U.S.C. 1331 et seq.) declares that it is the policy of the United States that the OCS “is a vital national resource reserve held by the Federal Government for the public, which should be made available for expeditious and orderly development, subject to environmental safeguards, in a manner which is consistent with the maintenance of competition and other national needs.” Id. at 1332(3). BOEM requests information and comments from Indigenous communities, territory, state, and local governments, Federal agencies, environmental and other public interest organizations, the deep-sea mineral mining industry, other interested organizations and entities, and the public, for use in the consideration of whether to offer OCS minerals for lease offshore the CNMI. BOEM is seeking a wide array of information, including but not limited to information on the potential impact of OCS mineral exploration and development on OCS resources and the marine, coastal, and human environments. This RFI is published under the OCS Lands Act, 43 U.S.C. 1337(k)(1), and its implementing regulations at 30 CFR 581.12.

1. Public Comment Procedure

BOEM's strong preference is to receive comments via regulations.gov, except when a comment contains proprietary information. Comments should include the full name and address of the individual submitting the comment(s). All relevant comments received are a part of the public record and will generally be posted for public viewing on www.regulations.gov without change. All personal identifying information submitted voluntarily by the sender will be publicly accessible. If you would like BOEM to withhold your personal identifying information, please state so prominently as described below in Section 8. BOEM cannot guarantee that we will be able to withhold any voluntarily submitted information. Even if BOEM withholds your information in the context of this RFI, your submission is subject to the Freedom of Information Act (FOIA), and if your submission is requested under the FOIA, your information will only be withheld if a determination is made that one of the FOIA's exemptions to disclosure applies. Such a determination will be made in accordance with the Department's FOIA regulations and applicable law.

2. Background Information

Section 8(k) of the OCS Lands Act (43 U.S.C. 1337(k)) authorizes the Secretary of the Interior to grant leases on the OCS to qualified persons offering the highest cash bonuses for minerals other than oil, gas, and sulfur on a competitive basis. The Trump Administration recognizes that an overreliance on foreign critical minerals and their derivative products could jeopardize U.S. defense capabilities, infrastructure development, and technological innovation. To support and facilitate domestic production of critical minerals, President Trump has issued a series of Executive Orders (E.O.s), including E.O. 14156, “Declaring a National Energy Emergency” (January 20, 2025); E.O. 14154, “Unleashing American Energy” (January 20, 2025); and E.O. 14285, “Unleashing America's Offshore Critical Minerals and Resources” (April 24, 2025). The Secretary of the Interior also issued Secretary's Order (SO) 3417, “Addressing the National Energy Emergency,” (February 3, 2025) and SO 3418, “Unleashing American Energy,” (February 3, 2025) which direct Department of the Interior (DOI) bureaus to facilitate and expedite critical mineral permitting, leasing, and ultimately development of critical minerals on the OCS.

In response to the EOs and SOs, BOEM is taking immediate action to accelerate the responsible development of OCS mineral resources, advance American leadership in associated extraction technologies, and ensure secure supply chains for U.S. defense, infrastructure, and energy sectors with the publication of this RFI.

Earlier this year, BOEM initiated the process for a potential lease sale offshore American Samoa with the publication of an RFI on Commercial Leasing for OCS minerals offshore American Samoa; please refer to the RFI (Docket No. BOEM-2025-0035) published in the Federal Register (90 FR 25369) on June 16, 2025, for more information. Additional information on American Samoa activities can be found at: https://www.boem.gov/American-Samoa.

BOEM will advance America's national security and future prosperity through the identification of and access to OCS minerals, which include those minerals identified as critical minerals by Federal statute. Pursuant to Section 7002 of the Energy Act of 2020 (Pub. L. 116-260, Division Z), critical minerals are defined as any minerals, elements, substances, or materials that are determined to be essential to the economic and national security of the United States, have a supply chain vulnerable to disruption, and play an essential role in manufacturing a product whose absence would significantly affect U.S. economic or national security. The Secretary of the Interior, through the U.S. Geological Survey, identified 50 critical minerals in February 24, 2022 (87 FR 10381). According to a 2025 Congressional Research Service report (Report No. R48302) up to 37 of these minerals may occur on the OCS. The list of critical minerals is being updated by the U.S. Geological Survey (USGS) and may change during the publication period of this notice.

Section 50251(b) of the Inflation Reduction Act of 2022 expanded the definition of the OCS under the OCS Lands Act to include submerged lands within the Exclusive Economic Zone adjacent to U.S. territories and amended the OCS Lands Act by modifying the definition of “State” to include each of the 50 States of the Union, the Commonwealth of Puerto Rico, Guam, American Samoa, U.S. Virgin Islands, and the CNMI. BOEM will coordinate with the Government of the CNMI throughout the OCS mineral leasing process relating to the area proposed for leasing.

Notably, upon release of this RFI, BOEM intends to evaluate lease planning with the Government of the CNMI, relevant OCS users, and Federal agencies including, but not limited to, the U.S. Fish and Wildlife Service, the National Park Service, U.S. Geological Survey, and the Office of Insular Affairs; the U.S. Army Corps of Engineers; the U.S. Coast Guard; the National Oceanic and Atmospheric Administration; and the Department of Defense. BOEM also intends to engage with the Indigenous Peoples of the CNMI, including the Chamorro and Carolinian (Refaluwasch) people, about their economic, environmental, cultural and public health concerns with OCS mineral development throughout the OCS mineral planning and leasing process. In addition, BOEM uses other information sources in its decision-making for leasing, such as available data and information on the location of marine life and habitat areas, cultural resources, transportation links, fishing areas, and other human uses.

3. BOEM's Leasing Process

BOEM will follow the steps required by 30 CFR 581.14 through 581.23 if it decides to proceed with the competitive leasing process after analyzing the responses to this RFI. Briefly, those steps are:

(1) OCS Mining Area Identification: BOEM will select tracts to be considered for offering of a lease. The selected tracts will be considered in the environmental analysis conducted for the proposed lease offering.

(2) Proposed Leasing Notice (PLN): BOEM will publish a PLN in the Federal Register at least 60 days before the publication of a leasing notice. The PLN will describe the areas that BOEM intends to offer for leasing; proposed primary terms of the OCS mineral leases to be offered; lease stipulations, including measures to mitigate potentially adverse impacts on the environment; and such rental, royalty, and other terms and conditions that BOEM may prescribe in the leasing notice.

(3) Leasing Notice (LN): If it decides to proceed to conduct a lease sale, BOEM will publish an LN in the Federal Register at least 30 days before the date of the lease sale. The LN will state whether oral or sealed bids or a combination thereof will be used; the place, date, and time at which sealed bids will be filed; and the place, date, and time at which sealed bids will be opened and/or oral bids received. The LN will contain or reference a description of the tract(s) to be offered for lease; specify the mineral(s) to be offered for lease (if less than all OCS minerals are being offered); specify the period of time the primary term of the lease will cover; and any stipulation(s), term(s), and condition(s) of the offer to lease. Additionally, the LN will include a reference to the OCS mineral lease form that will be issued to successful bidders and specify the terms and conditions governing the payment of the winning bid.

(4) Bid Submission and Evaluation: BOEM will offer the lease area(s) through a competitive, cash bonus bidding process under terms and conditions specified in the LN.

(5) Issuance of a Lease: Following identification of a winning qualified bidder on a lease area, BOEM will notify that bidder and provide the lease documents for signature.

4. Purpose of the RFI

The purpose of this RFI is to gather comments, information, and indications of interest from any interested parties for a potential OCS mineral lease sale offshore the Commonwealth of the Northern Mariana Islands. This RFI is one of the steps in the public participation process to ensure that all interests and concerns are considered for future leasing decisions. This does not mean that DOI or BOEM has reached a preliminary decision to lease in this area. BOEM will consider information and comments received that may identify any potential environmental impacts, multiple use conflicts, and ways to eliminate, mitigate, and monitor for impacts to assist in future analysis and leasing decisions. BOEM will also determine if any responses identify specific areas of interest in and around the RFI Area that could support commercial mineral development, potential conflicts among offshore activities and the CNMI coastal zone management plan, and requirements to ensure safe and environmentally responsible activities should a lease sale occur.

5. Description of the RFI Area

The CNMI is an unincorporated territory and commonwealth of the United States located in the northwestern Pacific Ocean and includes the 14 northernmost islands of the Mariana Archipelago. The RFI Area is located west of the Mariana Trench National Monument along the eastern edge of the U.S. Exclusive Economic Zone (Northern Mariana Islands). This area is approximately 35,483,044 acres (143,595 km²) with an approximate water depth of 3,700-25,100 feet (1,130-7,650 meters) and lies entirely within the OCS offshore the Commonwealth of the Northern Mariana Islands. The southern boundary of the RFI Area is approximately equal distance between the islands of Guam and Rota, the southernmost island of the CNMI. The RFI Area consists of abyssal plain, seamounts, and guyots and includes 6,502 whole or partial OCS lease blocks. The closest distance from Saipan to the RFI Area is approximately 128 statute miles (206 kilometers). BOEM plans to refer to Official Protraction Diagrams, whole or partial OCS lease blocks, and aliquots for the purpose of area identification and tract size specification. This is consistent with previous RFIs issued related to OCS mineral lease sales and the practice used by BOEM for other OCS leasing (e.g., oil and gas, other minerals). The map depicting the RFI Area (Figure 1), a spreadsheet listing its specific OCS blocks, and an Esri shapefile are available for download on the BOEM website at: www.boem.gov/Northern-Mariana-Islands.

The RFI Area is within a marine mineral prospective region for ferromanganese crust and nodules, as identified by the USGS. A map of the global marine mineral prospective regions is available at: https://www.usgs.gov/media/images/global-marine-mineral-prospective-regions-map. This designation indicates that conditions are favorable for the formation of ferromanganese crusts and nodule deposits in the RFI Area and therefore, potentially suitable for OCS mineral development. Respondents may nominate areas of interest and comment on any acreage in and around the RFI Area. The RFI Area is not indicative of the specific areas that may ultimately be offered for lease. Responses to this RFI will help determine lease tract size and block configurations for any potential leasing. If BOEM proceeds with the leasing process, tract sizes will be proposed in the PLN and finalized in the LN.

6. Types of Information and Comments Requested

BOEM invites comments from anyone who would like to submit information and suggestions for consideration in determining, among other things, the appropriate size and location of potential OCS mineral leasing in and around the RFI Area. Commenters should be as specific and detailed as possible to help BOEM understand and address the comments. Where applicable, spatial information should be submitted in a format compatible with Esri ArcGIS (Esri shapefile, Esri file geodatabase, KML (Keyhole Markup Language), GeoJSON, or GeoPackage) in the WGS84 geographic coordinate system. BOEM is requesting information on the following:

a. Information concerning the offering of a specific OCS mineral, a group of OCS minerals, or all OCS minerals (other than oil, gas, and sulfur) in a broad area for lease in and around the RFI Area or the offering of one or more discrete tracts which represent a mineable orebody.

b. Geological conditions, archaeological resources, or potential hazards on the seabed in and around the RFI Area.

c. Multiple uses in and around the RFI Area, including shipping, navigation, and recreation.

d. Socioeconomic, biological, and environmental information in and around the RFI Area or analogous sites for comparative analysis; potential impacts of leasing and mining activities to these resources; and methods to eliminate, mitigate, and monitor for impacts.

e. Information regarding commercial, Indigenous, and recreational fisheries, including but not limited to, the use of the areas, the fishing gear types used, seasonal use, and recommendations for reducing use conflicts.

f. Relative environmental sensitivity and marine productivity in and around the RFI Area.

g. Information on the preliminary activities necessary to develop comprehensive delineation, testing, or mining plans, particularly the types of any necessary surveys and associated equipment.

h. Information on the types of activities associated with delineation, testing, or mining of OCS minerals.

i. Information concerning the relationship between OCS mineral leasing and the CNMI Coastal Zone Management Program either in development or administered under Section 305 or Section 306 of the Coastal Zone Management Act of 1972, as amended, (16 U.S.C. 1454 and 1455).

j. Information related to Indigenous Peoples in the region and interactions with potential OCS mineral activities, such as potential impacts to Chamorro and Carolinian culture, the Indigenous ways of life; practices; lands; resources; ancestral lands; sacred sites, including sites that are submerged; and access to traditional areas of cultural or religious importance on federally-managed lands and waters. BOEM will protect confidential information shared by Indigenous Peoples in response to this RFI to the extent authorized by Federal law. Treatment of confidential information is addressed in section 8 of this notice entitled, “Protection of Privileged, Personal, or Confidential Information.”

k. Socioeconomic information for communities potentially affected by OCS mineral leasing in and around the RFI Area, including community profiles, vulnerability, and resiliency data. BOEM also solicits comments on how best to meaningfully engage with these communities.

l. Information from the deep-sea mining industry on the considerations for OCS mineral development in deep waters, such as water depth, seafloor conditions, deep-sea operations, mineral extraction feasibility, and costs.

m. Information on what a reasonable and fair rental rate would be for a minerals lease, including whether and why a rental payment should be required in the first five years, and if not, in accordance with 30 CFR 581.27, what the rental payment should be starting in year six. Should the adjustment or suspension of rental payments be allowed under certain conditions, such as geologic, geographic, technical, or economic factors? If so, what specific conditions should apply?

n. Information on the royalty rates and schedules that would effectively serve as both an incentive for development and assure a fair return to the public for extracted minerals. BOEM intends to issue any minerals lease with an ad valorum royalty and include provisions for a minimum royalty equivalent to the rental rate per 30 CFR 581.30. The royalty schedule may be modified from the provisions in 30 CFR 581.28(b) and is anticipated to include a lower royalty rate during the early years of the lease to foster interest in any potential leases.

o. Information on appropriate bid deposit, minimum bid levels, and preferred auction format (sealed bid or ascending). BOEM is evaluating the use of either a sealed bid or an ascending oral bid auction format and is considering limiting bidders to one lease area if multiple areas are offered. An ascending auction allows for more effective price discovery, while a sealed bid auction offers administrative simplicity.

p. Information on the appropriate lease size BOEM should offer for a minerals lease offshore the Commonwealth of the Northern Mariana Islands.

q. Information on the duration and conditions BOEM should consider for potential lease contraction clauses. BOEM expects to offer one or more large lease areas so companies can explore for and find economic deposits of critical minerals. However, BOEM is also considering lease contraction clauses, which would allow for the reduction of the leased acreage after a specified period. BOEM is evaluating a 2-stage lease contraction process, scheduled around years 7 and 14. The first contraction would reduce the acreage to the most suitable area for more detailed exploration. The second contraction would further refine the lease area to define the acreage for commercial harvesting. We ask the public to consider and provide comments about what the preferrable acreage for each lease contraction stage might be and what the optimal years for implementing these two stages of lease contraction might be.

r. The regulations at 30 CFR 581.26(h) establish a framework for valuing production for royalty purposes. We invite public comment on whether there are alternative valuation methods that ONRR should consider under 30 CFR 581.26(h)(1)(iii).

7. Requested Information for Indications of Interest

Areas of interest and the accompanying rationale are extremely useful to help BOEM understand and model the commercial viability of portions of the OCS for mineral leasing. Respondents are requested to nominate specific blocks or acreage within the RFI Area that are of particular interest for consideration in a possible OCS mineral lease sale. Nominations must be depicted on a map with the RFI Area by outlining the area(s) of interest. Where applicable, interested companies should submit spatial information in a format compatible with Esri ArcGIS (Esri shapefile, Esri file geodatabase, KML (Keyhole Markup Language), GeoJSON, or GeoPackage) in the WGS84 geographic coordinate system.

If you wish to indicate interest for one or more areas for a commercial OCS mineral lease in or around the RFI Area, you should provide the following information for each area of interest:

(a) The area to be offered for lease.

(b) The OCS minerals of primary interest.

(c) The available OCS mineral resource, geological, archaeological resources, and environmental information (including methods to eliminate, mitigate, and monitor for potential impacts) pertaining to the area of interest to be offered for lease which supports the request.

Although the identities of those indicating interest in specific areas in response to this RFI become a matter of public record, their indications of interest in specific areas are considered proprietary information. BOEM will not release information that identifies any particular area of interest or nomination with any particular party, so as not to compromise the competitive position of any participants. Respondents may rank areas of specific interest according to priority: 1 (high), 2 (medium), and 3 (low). The name and telephone number of a person in the respondent's organization to contact for additional information or clarification should be included in the response.

Please submit indications of interest in commercial leasing of specific areas electronically via email to Pacific.Region@boem.gov or by hard copy by mail to the following address: Bureau of Ocean Energy Management, Pacific Region, Office of Strategic Resources, 760 Paseo Camarillo (CM 102), Camarillo, California 93010. If you elect to mail a hard copy, also include an electronic copy on a portable storage device. Do not submit indications of interest via the Federal eRulemaking Portal.

8. Protection of Privileged, Personal, or Confidential Information

a. Freedom of Information Act

BOEM will protect privileged or confidential information that you submit when required by the FOIA. Exemption 4 of FOIA applies to trade secrets and commercial or financial information that is privileged or confidential. If you wish to protect the confidentiality of such information, clearly label it and request that BOEM treat it as confidential. BOEM will not disclose such information if BOEM determines under 30 CFR 581.7 that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM discourages the submission of anonymous comments. Please include your name and address as part of your comment. You should be aware that your entire comment, including your name, address, and any personally identifiable information (PII) or otherwise sensitive information included voluntarily in your comment may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments and an explanation about how its release would constitute a clearly unwarranted invasion of your personal privacy. You must also briefly describe any possible harmful consequences of the disclosure of information, such as embarrassment, injury, or other harm. Even if BOEM withholds your information in the context of this RFI, your submission is subject to FOIA and, if your submission is requested under FOIA, your information will be withheld only if a determination is made that one of FOIA's exemptions to disclosure applies. Such a determination will be made in accordance with the Department's FOIA regulations and applicable law.

c. Section 304 of the National Historic Preservation Act (NHPA) (54 U.S.C. 307103(a))

After consultation with the Secretary, BOEM is required to withhold the location, character, or ownership of historic resources if it determines that disclosure may, among other things, risk harm to the historic resources or impede the use of a traditional religious site by practitioners. Indigenous Peoples, communities, and organizations should designate information that falls under Section 304 of the NHPA as confidential.

Matthew Giacona,
Acting Director, Bureau of Ocean Energy Management.

[FR Doc. 2025-19852 Filed 11-10-25; 8:45 am]

BILLING CODE 4340-98-P